SECURITIES AND EXCHANGE COMMISSION

[Release No. 34-48180A; File No. PCAOB-2003-03]

Public Company Accounting Oversight Board; Order Approving Proposed Rules Relating to Registration System

July 22, 2003.

Correction

In FR Document No. 03-18497, which published on July 21, 2003, beginning on page 43244, in the last paragraph of column one, correct the file number to read (File No. PCAOB-2003-03).

Jill M. Peterson,
Assistant Secretary.

[FR Doc. 03-19086 Filed 7-25-03; 8:45 am]

BILLING CODE 8010-01-P